OFFICE OF NATIONAL DRUG CONTROL POLICY

Paperwork Reduction Act; Proposed Collection; Comment Request

AGENCY: Office of National Drug Control Policy.

ACTION: 30-Day notice and request for comments. New Information Collection Request: Drug Free Communities Support Program National Evaluation.

SUMMARY: The Office of National Drug Control Policy (ONDCP) intends to submit the following information collection request to the Office of Management and Budget for review and approval under the Paperwork Reduction Act.

DATES: ONDCP encourages and will accept public comments until September 22, 2011.

ADDRESSES: Address all comments in writing within 30 days to Mr. Patrick Fuchs. Facsimile and e-mail are the most reliable means of communication. Mr. Fuchs facsimile number is (202) 395-5167, and his e-mail address is pfuchs@omb.eop.gov. Mailing address is 725 17th Street, NW., Washington DC 20503. For further information contact Mr. Fuchs at (202) 395-3897.

Abstract: ONDCP directs the Drug Free Communities (DFC) Program in partnership with the Substance Abuse and Mental Health Services Administration's Center for Substance Abuse Prevention. The DFC Program has two primary goals: To reduce youth substance abuse, and to support community anti-drug coalitions by establishing, strengthening, and fostering collaboration among public and private agencies.

Under reauthorization legislation (21 U.S.C. 1702), Congress mandated an evaluation of the DFC Program to determine its effectiveness in meeting objectives. In 2009, a contract was awarded to evaluate the DFC Program. This evaluation builds upon the results of an earlier evaluation and makes use of an existing web-based performance system, called the Coalition Online Management and Evaluation Tool (COMET) and the Coalition Classification Tool (CCT), to gather information from DFC grantees. COMET and CCT are being revised to reduce the burden of information collection on grantees, increase the quality of the data, and facilitate the monitoring and tracking of grantee progress. Revisions to the core outcome measures of DFC are also proposed to bring this data collection in line with the National Outcome Measures (NOMS). Proposed changes include the addition of a peer disapproval measure, the removal of the age of first use measure, and a revision to the perception of risk measure for alcohol to focus on binge drinking. Moreover, prescription drug use is proposed to be tracked as a core substance of abuse in this study.

In addition to the information collected from the COMET and CCT system, the new evaluation will include a case study component to document coalition practices. This element of the evaluation will involve interviews with coalition leaders and surveys of coalition partners from a number of agencies. Each year, nine DFC grantees will be evaluated and the information from the case studies will be shared other grantees.

Type of Information Collection: Web-based data collection, surveys and interviews of DFC and Sober Truth on Preventing Underage Drinking (STOP) Act grantees.

Title: Drug Free Communities Support Program National Evaluation.

Frequency: Semi-annually by DFC and Stop Act Program Directors via COMET, and annually for DFC Program Directors and selected coalition members via the CCT. Interviews and electronic surveys of Program Directors and electronic surveys of selected coalition members will be accomplished one time.

Affected Public: DFC and STOP Act grantees.

Estimated Burden: ONDCP expects that the time required to complete each semi-annual report via COMET will be approximately five hours, and each CCT report will take approximately one hour to complete. Face to face interviews will take 1.5-2 hours and surveys will take approximately .25 hours each to complete. The estimated total amount of time required by all respondents over one year, including Program Directors and grantees to complete COMET, CCT, surveys, and interviews, is 9,680 hours.

Goals: ONDCP intends to use the data of the DFC National Evaluation to assess the DFC Program's effectiveness in preventing and reducing youth substance use. Two primary objectives of the evaluation are to: (1) Support an effective grant monitoring mechanism that provides the Federal government with the expertise, system, functions, and products to collect, analyze, and report data collectively, and (2) regularly monitor and measure data in order to demonstrate the progress of the DFC program and its grantees.

Comment Request: ONDCP especially invites comments on: whether the proposed data are proper for the functions of the agency; whether the information will have practical utility; the accuracy of ONDCP's estimate of the burden of the proposed collection of information, including the validity of the methodology and assumptions; ways to enhance the quality, utility, and clarity of the information to be collected; and, ways to ease the burden on proposed respondents, including the use of automated collection techniques or other forms of information technology. Comments will be accepted for thirty days.

Dated: August 18, 2011.
Daniel R. Petersen,
Deputy General Counsel.

[FR Doc. 2011-21548 Filed 8-22-11; 8:45 am]

BILLING CODE 3180-W1-P